FEDERAL ACCOUNTING STANDARDS ADVISORY BOARD

Notice of Issuance of Statement of Federal Financial Accounting Standards (SFFAS) 34, “The Hierarchy of Generally Accepted Accounting Principles for Federal Entities, Including the Application of Standards Issued by the Financial Accounting Standards Board”

AGENCY: Federal Accounting Standards Advisory Board.

ACTION: Notice.

Board Action: Pursuant to 31 U.S.C. 3511(d), the Federal Advisory Committee Act (Pub. L. 92-463), as amended, and the FASAB Rules of Procedure, as amended in April 2004, notice is hereby given that the Federal Accounting Standards Advisory Board (FASAB) has issued Statement of Federal Financial Accounting Standards (SFFAS) 34, The Hierarchy of Generally Accepted Accounting Principles for Federal Entities, Including the Application of Standards Issued by the Financial Accounting Standards Board.

SFFAS 34 incorporates the hierarchy of generally accepted accounting principles (GAAP) into the FASAB's authoritative literature. The “GAAAP hierarchy” consists of the sources of accounting principles used in the preparation of financial statements of Federal reporting entities that are presented in conformity with GAAP and the framework for selecting those principles.

The statement is available on the FASAB home page http://www.fasab.gov/exposure.html. Copies can be obtained by contacting FASAB at (202) 512-7350.

FOR FURTHER INFORMATION CONTACT: Wendy Payne, Executive Director, at (202) 512-7350.

Authority: Federal Advisory Committee Act, Public Law 92-463.

Dated: July 29, 2009.
Charles Jackson,
Federal Register Liaison Officer.

[FR Doc. E9-18449 Filed 7-31-09; 8:45 am]

BILLING CODE 1610-01-P